DEPARTMENT OF HEALTH AND HUMAN SERVICES

Substance Abuse and Mental Health Services Administration

HHS Approval of Entities That Certify Medical Review Officers

AGENCY: Substance Abuse and Mental Health Services Administration, HHS.

ACTION: Notice.

SUMMARY: This notice publishes a list of the Department of Health and Human Services (HHS) approved Medical Review Officers certification entities. The HHS Mandatory Guidelines for Federal Workplace Drug Testing Programs (Mandatory Guidelines), applicable on October 1, 2017, addresses the role and qualifications of Medical Review Officers (MROs) and HHS approval of entities that certify MROs.

FOR FURTHER INFORMATION CONTACT: Sean J. Belouin, Pharm.D., CAPT, United States Public Health Service, Senior Pharmacology and Regulatory Policy Advisor, Substance Abuse and Mental Health Services Administration, 5600 Fishers Lane, Room 16N06D, Rockville, Maryland 20857; Telephone: (240) 276-2716; Email: sean.belouin@samhsa.hhs.gov.

SUPPLEMENTARY INFORMATION: Subpart M—Medical Review Officer (MRO), Section 13.2 of the Mandatory Guidelines, “How are nationally recognized entities or subspecialty boards that certify MROs approved?” states as follows: “All nationally recognized entities or subspecialty boards which seek approval by the Secretary to certify physicians as MROs for federal workplace drug testing programs must submit their qualifications, a sample examination, and other necessary supporting examination materials (e.g., answers, previous examination statistics or other background examination information, if requested) (OMB Control No.: 0930-0158). Approval will be based on an objective review of qualifications that include a copy of the MRO applicant application form, documentation that the continuing education courses are accredited by a professional organization, and the delivery method and content of the examination. Each approved MRO certification entity must resubmit their qualifications for approval every two years. The Secretary shall publish at least every two years a notice in the Federal Register listing those entities and subspecialty boards that have been approved. This notice is also available on the internet at http://www.samhsa.gov/workplace/drug-testing.”

HHS has completed its review of entities that certify MROs, in accordance with requests submitted by such entities to HHS.

The HHS Secretary approves the following MRO certifying entities that offer MRO certification through examination:

American Association of Medical Review Officers (AAMRO), P.O. Box 12873, Research Triangle Park, NC 27709, Phone: (919) 489-5407, Fax: (919) 490-1010, Email: bbrandon@aamro.com, website: http://www.aamro.com/.

Medical Review Officer Certification Council (MROCC), 3231 S. Halsted St, #167, Chicago, IL 60608, Phone: (847) 631-0599, Fax: (847) 483-1282, Email: mrocc@mrocc.org, website: http://www.mrocc.org/.

DATES: HHS approval is effective July 31, 2018.

Alex M. Azar II,
Secretary.

[FR Doc. 2018-17184 Filed 8-9-18; 8:45 am]

BILLING CODE 4162-20-P